ENVIRONMENTAL PROTECTION AGENCY

[FRL-8704-4]

Clean Water Act Section 303(d): Final Agency Action on 27 Arkansas Total Maximum Daily Loads (TMDLs)

AGENCY: Environmental Protection Agency (EPA).

ACTION: Notice of availability.

SUMMARY: This notice announces the final agency action on 27 TMDLs established by EPA Region 6 for waters listed in the State of Arkansas, under section 303(d) of the Clean Water Act (CWA). These TMDLs were completed in response to the lawsuit styled Sierra Club, et al. v. Clifford, et al., No. LR-C-99-114. Documents from the administrative record files for the final 27 TMDLs, including TMDL calculations may be viewed at www.epa.gov/region6/water/npdes/tmdl/index.htm.

ADDRESSES: The administrative record files for these 27 TMDLs may be obtained by writing or calling Ms. Diane Smith, Environmental Protection Specialist, Water Quality Protection Division, U.S. Environmental Protection Agency Region 6, 1445 Ross Ave., Dallas, TX 75202-2733. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Clifford, et al., No. LR-C-99-114. Among other claims, plaintiffs alleged that EPA failed to establish Arkansas TMDLs in a timely manner.

EPA Takes Final Agency Action on 27 TMDLs

By this notice EPA is taking final agency action on the following 27 TMDLs for waters located within the State of Arkansas:

Segment-reach | Waterbody name | Pollutant
08040102-016 | Caddo River | Copper and Zinc.
08040102-018 | Caddo River | Copper and Zinc.
08040102-019 | Caddo River | Copper and Zinc.
08040102-023 | South Fork Caddo R. | Copper and Zinc.
08040203-904 | Big Creek | Lead and Turbidity.
08040205-001 | Bayou Bartholomew | TDS, Chloride, and Sulfate.
08040205-002 | Bayou Bartholomew | TDS, Chloride, and Sulfate.
08040205-007 | Cutoff Creek | Turbidity.
08040205-012U | Bayou Bartholomew | TDS, Chloride, and Sulfate.
08040205-013 | Bayou Bartholomew | TDS, Chloride, and Sulfate.
08040101-048 | Prairie Creek | Turbidity.
08040201-001U | Moro Creek | Turbidity.
08040201-001L | Moro Creek | Turbidity.
08040204-005 | Big Creek | Turbidity.

EPA requested the public to provide EPA with any significant data or information that might impact the 27 TMDLs at Federal Register Notice: Volume 72, Number 241, pages 71409 and 71410 (December 17, 2007). The received comments were reviewed, and the EPA's response to comments and the TMDLs may be found at http://www.epa.gov/region6/water/npdes/tmdl/index.htm.

Dated: August 6, 2008.
Miguel I. Flores,
Director, Water Quality Protection Division, EPA Region 6.

[FR Doc. E8-18839 Filed 8-13-08; 8:45 am]

BILLING CODE 6560-50-P